DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register notice with a 60-day comment period soliciting comments on the following collection of information was published on June 28, 2006, vol. 71, no. 124, page 36868-36869. The information collected is needed for the applicant's noise certification compliance report in order to demonstrate compliance with part 36.

DATES: Please submit comments by December 13, 2006.

FOR FURTHER INFORMATION CONTACT: Carla Mauney at Carla.Mauney@faa.gov.

SUPPLEMENTARY INFORMATION:

Federal Aviation Administration (FAA)

Title: Noise Certification Standards for Subsonic Jet Airplanes and Subsonic Transport Category Large Airplanes.

Type of Request: Revision of a currently approved collection.

OMB Control Number: 2120-0659.

Form(s): No FAA forms are associated with this collection.

Affected Public: An estimated 10 Respondents.

Frequency: This information is collected on occasion.

Estimated Average Burden Per Response: Approximately 135 hours per response.

Estimated Annual Burden Hours: An estimated 1,350 hours annually.

Abstract: Sections A36.5.2 and A36.5.2.5 of the Federal Aviation Administration (FAA) noise certification standards for subsonic jet airplanes and subsonic transport category large airplanes (14 CFR part 36) contain information collection requirements. The information collected is needed for the applicant's noise certification compliance report in order to demonstrate compliance with part 36.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on November 6, 2006.
Carla Mauney,
FAA Information Collection Clearance Officer, Information Systems and Technology Services Staff, ABA-20.

[FR Doc. 06-9174 Filed 11-9-06; 8:45 am]

BILLING CODE 4910-13-M